OFFICE OF PERSONNEL MANAGEMENT

Excepted Service

AGENCY: Office of Personnel Management.

ACTION: Notice.

SUMMARY: This gives notice of positions placed or revoked under Schedules A and B, and placed under Schedule C in the excepted service, as required by Civil Service Rule VI, Exceptions from the Competitive Service.

FOR FURTHER INFORMATION CONTACT: Suzy Barker, Staffing Reinvention Office, Employment Service (202) 606-0830.

SUPPLEMENTARY INFORMATION: The Office of Personnel Management published its last monthly notice updating appointing authorities established or revoked under the Excepted Service provisions of 5 CFR 213 on March 23, 2000 (65 FR 15664). Individual authorities established or revoked under Schedules A and B and established under Schedule C between February 1, 2000, and February 29, 2000 appear in the listing below. Future notices will be published on the fourth Tuesday of each month, or as soon as possible thereafter. A consolidated listing of all authorities as of June 30 will also be published.

Schedule A

No Schedule A authorities were established during February 2000.

The following Schedule A authority was revoked:

Corporation for National and Community Service

All positions on the Staff of the Corporation for National Community Service. No new appointment may be under this authority after September 30, 1995. Effective February 30, 2000.

Schedule B

No Schedule B authorities were established or revoked during February 2000.

Schedule C

The following Schedule C authorities were established during February 2000.

Broadcasting Board of Governors

Development Officer to the Director, International Broadcasting Bureau. Effective February 4, 2000.

Confidential Assistant to the Director, Voice of America. Effective February 22, 2000.

Consumer Product Safety Commission

Special Assistant (Legal) to the Commissioner. Effective February 17, 2000.

Department of Agriculture

Confidential Assistant to the Administrator, Rural Business Service. Effective February 8, 2000.

Staff Assistant to the Director, Legislative Liaison, Executive Secretariat and Public Affairs Staff. Effective February 9, 2000.

Senior Policy Director to the Deputy Under Secretary, Policy and Planning. Effective February 9, 2000.

Confidential Assistant to the Administrator, Rural Housing Service. Effective February 17, 2000.

Confidential Assistant Chief, Natural Resources Conservation Service. Effective February 29, 2000.

Confidential Assistant to the Assistant Secretary for Congressional Relations. Effective February 29, 2000.

Department of Commerce

Special Assistant to the Under Secretary for Export Administration. Effective February 7, 2000.

Senior Advisor to the Director, Office of Sustainable Development and Intergovernmental Affairs. Effective February 14, 2000.

Special Counsel to the General Counsel. Effective February 16, 2000.

Department of Defense

Special Assistant to the Under Secretary of Defense for Industrial Affairs. Effective February 9, 2000.

Special Assistant for Counterterrorism/Crisis Management to the Assistant Secretary of Defense for Legislative Affairs. Effective February 10, 2000.

Assistant for Terrorism Consequence Management Policy and Programs to the Deputy Assistant Secretary of Defense. Effective February 10, 2000.

Department of Education

Confidential Assistant to the Director, White House Initiative on Hispanic Education. Effective February 29, 2000.

Confidential Assistant to the Senior Advisor to the Secretary. Effective February 29, 2000.

Department of Energy

Senior Advisor to the Assistant Secretary for Fossil Energy. Effective February 24, 2000.

Public Affairs Specialist to the Director, Office of Public Affairs. Effective February 25, 2000.

Senior Policy Advisor to the Secretary of Energy. Effective February 25, 2000.

Department of Health and Human Services

Congressional Liaison Specialist to the Deputy Assistant Secretary for Legislation (Congressional Liaison). Effective February 7, 2000.

Confidential Assistant to the Executive Secretary. Effective February 7, 2000.

Department of Housing and Urban Development

Special Assistant to the Advisor to the Deputy Secretary for Management Reform. Effective February 4, 2000.

Special Events Coordinator to the Advisor to the Deputy Secretary for Management Reform. Effective February 23, 2000.

Department of the Interior

Special Assistant to the Deputy Chief of Staff. Effective February 1, 2000.

Special Assistant to the Deputy Assistant Secretary, Policy and International Affairs. Effective February 1, 2000.

Administrative Aide to the Director of Intergovernmental Affairs. Effective February 24, 2000.

Department of Justice

Chief of Staff to the Director, Community Oriented Policing Services. Effective February 14, 2000.

Special Assistant to the Director, Community Oriented Policing Services. Effective February 18, 2000.

Staff Assistant to the Director, Office of Public Affairs. Effective February 24, 2000.

Secretary (OA) to the United States Attorney, Northern District of West Virginia. Effective February 29, 2000.

Department of Transportation

Deputy Director to the Director, Office of Congressional Affairs. Effective February 14, 2000.

Senior Advisor to the Administrator, Research and Special Programs Administration. Effective February 18, 2000.

Special Assistant to the Deputy Assistant Secretary for Aviation and International Affairs. Effective February 24, 2000.

Department of the Treasury

Attorney-Advisor to the General Counsel. Effective February 7, 2000.

Export-Import Bank of the United States

Special Assistant to the Chairman. Effective February 3, 2000.

Federal Communications Commission

Assistant Director to the Director, Office of Media Relations. Effective February 10, 2000.

Federal Emergency Management Agency

Director, Office of Public Affairs to the Director, Federal Emergency Management Agency. Effective February 17, 2000.

Federal Energy Regulatory Commission

Regulatory Policy Analyst to the Director, Office of Markets, Tariffs and Rates. Effective February 3, 2000.

Federal Maritime Commission

Special Assistant to the Commissioner. Effective February 10, 2000.

Federal Trade Commission

Confidential Assistant to the Commissioner. Effective February 14, 2000.

Office of Management and Budget

Legislative Analyst to the Associate Director for Legislative Affairs. Effective February 4, 2000.

Small Business Administration

Associate Director for Field Operations to the Associate Administrator for Field Operations. Effective February 1, 2000.

Authority: 5 U.S.C. 3301 and 3302; E.O. 10577, 3 CFR 1954—1958 Comp., P.218.

Office of Personnel Management.
Janice R. Lachance,
Director.

[FR Doc. 00-8841 Filed 4-7-00; 8:45 am]

BILLING CODE 6325-01-P